DEPARTMENT OF JUSTICE

Antitrust Division

Notice Pursuant to the National Cooperative Research and Production Act of 1993; IMS Global Learning Consortium, Inc.

Correction

In notice document 2011-26426 appearing on page 63659 in the issue of October 13, 2011, make the following corrections:

(1) On page 63659, in the first column, in the fifth line, “INS” should read “IMS”.

(2) On the same page, in the same column, in the forth paragraph, in the first line, “earning” should read “Learning”.

[FR Doc. C1-2011-26426 Filed 10-20-11; 8:45 am]

BILLING CODE 1505-01-D